ENVIRONMENTAL PROTECTION AGENCY

[RCRA-2005-0016, FRL-8010-6]

Agency Information Collection Activities: Proposed Collection; Comment Request; Reporting and Recordkeeping Requirements Under EPA's National Partnership for Environmental Priorities, EPA ICR Number 2076.02, OMB Control Number 2050-0190

AGENCY: Environmental Protection Agency.

ACTION: Notice.

SUMMARY: In compliance with the Paperwork Reduction Act (44 U.S.C. 3501 et seq.), this document announces that EPA is planning to submit a continuing Information Collection Request (ICR) to the Office of Management and Budget (OMB). This is a request for an existing approved collection. This ICR is scheduled to expire on April 30, 2006. Before submitting the ICR to OMB for review and approval, EPA is soliciting comments on specific aspects of the proposed information collection as described below.

DATES: Comments must be submitted on or before February 21, 2006.

ADDRESSES: Submit your comments, referencing docket ID number RCRA-2005-0016, to EPA online using EDOCKET (our preferred method), by e-mail to RCRA-docket@epa.gov, or by mail to: EPA Docket Center, Environmental Protection Agency, RCRA Docket, mail code 5305T, 1200 Pennsylvania Ave., NW., Washington, DC 20460.

FOR FURTHER INFORMATION CONTACT: Newman Smith, Office of Solid Waste (5302W), Environmental Protection Agency, 1200 Pennsylvania Ave., NW., Washington, DC 20460; telephone number: 703-308-8757; fax number: 703-308-8433; e-mail address: smith.newman@epa.gov.

SUPPLEMENTARY INFORMATION: EPA has established a public docket for this ICR under Docket ID number RCRA-2005-0016, which is available for public viewing at the RCRA Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the RCRA Docket is (202) 566-0270. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are those which generate, store, and treat hazardous waste.

Title: Reporting and Recordkeeping Requirements Under EPA's National Program for Environmental Priorities (formerly, Reporting and Recordkeeping Requirements under EPA's National Waste Minimization partnership Program)

Abstract: EPA currently has an ongoing national program that, through source reduction, reuse, and recycling, encourages a reduction in use or the minimization of release of hazardous chemicals. Participation in the National Partnership for Environmental Priorities (previously the National Waste Minimization Partnership Program) is completely voluntary. EPA will use five forms to collect information from participants, called partners, which can be prepared and submitted in a hard copy or electronically. Participation begins when the first of these forms, an Enrollment Form, is submitted and accepted by EPA. The form asks for basic site identification information as well as information on the company's chemical reduction goals under the program.

Partners will also have an opportunity to complete and submit the second optional form titled Application for Certificate of Accomplishment. They may submit this form when they accomplish the goals they established for their initial participation in the program. These certificate applications will enable the Agency to confirm a partners' progress and to measure the overall success of the program. Evaluation and acceptance of these certificate applications is also the basis the Agency uses to recognize partner accomplishments in a formal (e.g., at an awards ceremony or by congratulatory letter) manner, if appropriate. This partner recognition is important as a motivation in enlisting new partners and in encouraging current partners to declare additional reduction goals.

A third form is an optional, one-time Case Studies Submission Form. This form enables a partner to describe its waste minimization techniques, implementation problems, lessons learned, benefits, and relevant implications. The case studies will assist the Agency in better understanding waste minimization approaches and technologies. The information may also help the Agency in sharing lessons learned and effective strategies among the facilities generating hazardous waste, in order to promote continued and effective waste minimization efforts. Sharing effective waste reduction strategies with others is a fundamental objective of the partnership program.

The fourth and fifth forms provide current partners the opportunity to revise current goals or to submit additional goals. They are titled the Add Our New Goals Form and the Goal Revision Form. Other than their titles, both forms are actually the same as the enrollment form described above.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 14 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: December 13, 2005.
Matthew Hale,
Director, Office of Solid Waste.

[FR Doc. E5-7558 Filed 12-19-05; 8:45 am]

BILLING CODE 6560-50-P